DEPARTMENT OF ENERGY

Federal Energy Regulatory Commission

[Project Nos. 1982-017, 2567-009, 2670-014, 2440-040, 2491-025 and 2639-009]

Northern States Power Company (Wisconsin); Notice of Settlement Agreement and Soliciting Comments

February 14, 2001.

Take notice that the following Settlement Agreement has been filed with the Commission and is available for public inspection:

a. Type: Settlement Agreement on New License Applications and Existing Licenses.

b.—

Project No. | Project name | Applicant
1982-017 | Holcombe | Northern State Power Company—Wisconsin.
2567-009 | Wissota | Northern State Power Company—Wisconsin.
2670-014 | Dells | Northern State Power Company—Wisconsin/City of Eau Claire, WI.

Project No. | Project name | Licensee
2440-040 | Chippewa Falls | Northern State Power Company—Wisconsin.
2491-025 | Jim Falls | Northern State Power Company—Wisconsin.
2639-009 | Cornell | Northern State Power Company—Wisconsin.

c. Date Settlement Agreement Filed: February 1, 2001.

d. Location: On the Chippewa River, in Rusk, Chippewa, Eau Claire counties, Wisconsin. The project areas do not occupy lands of the United States.

e. Filed Pursuant to: Rule 602 of the Commission's Rules of Practice and Procedure, 18 CFR 385.602.

f. Applicant's Contact: William P. Zawacki, Northern States Power Company—Wisconsin d/b/a Xcel Energy, 1414 West Hamilton Ave. P.O. Box 8, Eau Claire, WI; (703) 836-1136.

g. FERC Contact: Mark Pawlowski (202) 219-2795, Email: mark.pawlowski@ferc.fed.us.

h. Deadline Dates: Comments due March 15, 2001; reply comments due March 30, 2001.

i. Individuals desiring to be included on the Commission's mailing list should so indicate by writing to the Secretary of the Commission.

All documents (original and eight copies) should be filed with: David P. Boergers, Secretary, Federal Energy Regulatory Commission, 888 First Street, NE., Washington, DC 20426. Comments and protests may be filed electronically via the internet in lieu of paper. See, 18 CFR 385.2001(a)(1)(iii) and the instructions on the Commission's web site at http://www.ferc.fed.us/efi/doorbell.htm.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

j. Description of Filing: Northern Sates Power Company—Wisconsin filed the Settlement Agreement on behalf of itself and the City of Eau Claire, Wisconsin, U.S. Fish and Wildlife Service, National Park Service, Wisconsin Department of Natural Resources, River Alliance of Wisconsin, Wisconsin Conservation Congress, Chippewa Rod and Gun Club, Lake Holcombe Improvement Association, Lake Wissota Improvement Association, and Lower Chippewa Restoration Coalition Inc. The purpose of the Settlement Agreement is to resolve among the signatories all issues associated with issuance of new licenses for the projects regarding sediment management, water quality, in stream flows, fish habitat, and recreation. Northern States requests that the Commission accept and incorporate into any new license for the projects the protection, mitigation, and enhancement measures stated in the Settlement Agreement. Comments and reply comments on the Settlement Agreement and supporting documentation are due on the dates listed above.

k. Copies of the Settlement Agreement are available for inspection and reproduction at the Commission's Public Reference Room, located at 888 First Street, NE., Room 2A, Washington, DC 20426, or by calling (202) 208-1371. This filing may be viewed on http://www.ferc.fed.us/online/rims.htm (call 202-208-2222 for assistance) or at the address listed in item f above.

Linwood A. Watson, Jr.,
Acting Secretary.

[FR Doc. 01-4204 Filed 2-20-01; 8:45 am]

BILLING CODE 6717-01-M